DEPARTMENT OF TRANSPORTATION

Maritime Administration

[Docket Number: MARAD-2002-11453]

Requested Administrative Waiver of the Coastwise Trade Laws

AGENCY: Maritime Administration, Department of Transportation.

ACTION: Invitation for public comments on a requested administrative waiver of the Coastwise Trade Laws for the vessel BLUE LAGOON.

SUMMARY: As authorized by Public Law 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before March 8, 2002.

ADDRESSES: Comments should refer to docket number MARAD-2002-11453. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Public Law 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-Build Requirement

(1) Name of vessel and owner for which waiver is requested. Name of vessel: BLUE LAGOON. Owner: Joseph Vincer.

(2) Size, capacity and tonnage of vessel. According to the applicant: “47 feet in length, 24 feet 7 inches in beam, 3 feet 7 inches draft” “19 tons gross, 15 tons net”

(3) Intended use for vessel, including geographic region of intended operation and trade. According to the applicant:

Vessel would be used for 6 to 12 passengers for evening sunset sailing cruises, and sailing cruises of Sarasota Bay, FL and mouth of Tampa Bay, FL. On occasion I might like to take people on overnight sails to Naples, FL and the Upper Keys, departing from Sarasota and returning to Sarasota.

(4) Date and Place of construction and (if applicable) rebuilding. Date of construction: 1989. Place of construction: Marseilles, France. Major refit at Bob & Annies Boatyard, Pine Island FL, 1996 in excess of $100,000.

(5) A statement on the impact this waiver will have on other commercial passenger vessel operators. According to the applicant: “Approval of this waiver will have minimal impact on other commercial passenger vessel operators'As there [is] no other sailboat operator engaged in the day sail business in my area, there would be no competition to other operators.”

(6) A statement on the impact this waiver will have on U.S. shipyards. According to the applicant:

Blue Lagoon was rescued from abandonment and ill-care by myself and have had extensive work done on her in US boatyards, and by my own labor in the US to bring her back to her “full glory”. I have spent well over $100,000 doing so, helping the us marine industry. She continues to have work done in the US, and nowhere else * * * therefore, there is no competition to US boat builders, but may actually help local boat builders as some people who would take a ride upon BLUE LAGOON may decide to buy a catamaran of US origin.

Dated: January 31, 2002.
By Order of the Maritime Administrator.
Murray A. Bloom,
Acting Secretary, Maritime Administration.

[FR Doc. 02-2796 Filed 2-5-02; 8:45 am]

BILLING CODE 4910-81-P